DEPARTMENT OF TRANSPORTATION

Federal Highway Administration

Notice of Final Federal Agency Actions on Proposed Highways in Nevada

AGENCY: Federal Highway Administration (FHWA), DOT.

ACTION: Notice of limitation on claims for judicial review of actions by FHWA and other Federal agencies.

SUMMARY: This notice announces actions taken by FHWA and other Federal agencies that are final. The actions relate to the proposed highway project for transportation improvements in the Interstate 80 (I-80), Interstate 580 (I-580), United States Highway 395 (US 395) Interchange, and connecting roads in the City of Reno and City of Sparks, Washoe County, Nevada. The I-80/I-580/US 395 Interchange is known locally as the “Spaghetti Bowl.” These actions grant licenses, permits, and approvals for the project.

DATES: By this notice, FHWA is advising the public of final agency actions subject to 23 U.S.C. 139(l)(1). A claim seeking judicial review of the Federal agency actions on the listed highway project will be barred unless the claim is filed on or before February 3, 2020. If the Federal law that authorizes judicial review of a claim provides a time-period of less than 150 days for filing such claim, then that shorter time-period still applies.

FOR FURTHER INFORMATION CONTACT: For the FHWA: Mr. Abdelmoez Abdalla, Ph.D., Environmental Program Manager, Federal Highway Administration, 705 North Plaza Street, Carson City, Nevada 89701-0602; telephone: (775) 687-1231; email: abdelmoez.abdalla@dot.gov. The FHWA Nevada Division Office's regular business hours are from 7:30 a.m. to 4:00 p.m. (Pacific Time). For the Nevada Department of Transportation (NDOT): Mr. Christopher E. Young, RPA, Acting Chief, Environmental Services Division, Nevada Department of Transportation, 1263 South Stewart Street, Carson City, Nevada 89712; telephone: (775) 888-7686; email: cyoung@dot.nv.gov. The NDOT office's regular business hours are from 8:00 a.m. to 5:00 p.m. (Pacific Time).

SUPPLEMENTARY INFORMATION: Notice is hereby given that FHWA has taken final agency actions related to the Spaghetti Bowl Interchange Project located in Washoe County, Nevada. The FHWA, in cooperation with NDOT, prepared a Draft Environmental Impact Statement (EIS) and combined Final EIS (FEIS)/Record of Decision (ROD) to reconstruct the Spaghetti Bowl Interchange in the cities of Reno and Sparks in Washoe County, Nevada. The proposed project will improve the Spaghetti Bowl and major street connections on I-580/US 395 from Meadowood Mall Way Drive on the south to Parr Avenue/Dandini Boulevard on the north and I-80 from Keystone Avenue on the west to Pyramid Way on the east. The study includes approximately 7.3 miles of I-580/US 395 and 4.3 miles of I-80. The project will improve the operations, capacity, and safety of the interchange while addressing all modes of travel as appropriate. Regionally, I-80 connects San Francisco, Sacramento, Reno, and Salt Lake City. I-580 links Carson City with Reno, and US 395 serves as an important regional route.

The actions taken by the Federal agencies on this project, and laws under which such actions were taken, are described in the combined ROD/FEIS, issued on July 30, 2019, and in other documents in the FHWA or NDOT project records. The combined ROD/FEIS, and other project records are available by contacting FHWA or NDOT at the addresses provided above. The combined ROD/FEIS can also be viewed on the project website at: https://ndotspaghettibowl.com/.

This notice applies to all Federal agency decisions as of the issuance date of this notice and all laws under which such actions were taken, including but not limited to:

1. General: National Environmental Policy Act (NEPA) [42 U.S.C. 4321-4351]; Federal-Aid Highway Act (FAHA) [23 U.S.C. 109 as amended by the Fast Act Section 1404(a) (Pub. L. 114-94) and 23 U.S.C. 128].

2. Air: Clean Air Act [42 U.S.C. 7401-7671(q)] (Transportation Conformity, 40 CFR part 93).

3. Noise: Procedures for Abatement of Highway Traffic Noise and Construction Noise [23 U.S.C. 109(h), 109(i); 42 U.S.C. 4331, 4332; sec. 339(b), Public Law 104-59, 109 Stat. 568, 605; 49 CFR 1.48(b); 23 CFR 772].

4. Land: Section 4(f) of the Department of Transportation Act of 1966 [23 U.S.C. 138 and 49 U.S.C. 303] and Section 6(f) of the Land and Water Conservation Act as amended [16 U.S.C. 4601]; 23 CFR 774.

5. Historic and Cultural Resources: Section 106 of the National Historic Preservation Act of 1966, as amended [54 U.S.C 306108]; Archeological and Historic Preservation Act of 1974 [16 U.S.C. 469-469(c)].

6. Wildlife: Endangered Species Act of 1973 [16 U.S.C. 1531-1544 and Section 1536]; Fish and Wildlife Coordination Act [16 U.S.C. 661-667(e)]; Migratory Bird Treaty Act [16 U.S.C. 703-712].

7. Social and Economic: Civil Rights Act of 1964 [42 U.S.C. 2000(d) et seq.], as amended; Americans with Disabilities Act [42 U.S.C. 12101]; Uniform Relocation Assistance and Real Property Acquisition Act of 1970 [42 U.S.C. 4601 et seq., as amended by the Uniform Relocation Act Amendments of 1987 [Pub. L. 100-17].

8. Wetlands and Water Resources: Clean Water Act (Section 404, Section 408, Section 401, Section 319) [33 U.S.C. 1251 et seq.]; Safe Drinking Water Act [42 U.S.C. 300f et seq.]. Hazardous Materials: Comprehensive Environmental Response, Compensation, and Liability Act of 1980 (CERCLA) as amended [42 U.S.C. 9601 et seq.]; Superfund Amendments and Reauthorization Act of 1986 [Pub. L. 99-499]; Resource Conservation and Recovery Act [42 U.S.C. 6901 et. seq.].

9. Executive Orders: E.O. 11990, Protection of Wetlands; E.O. 11988, Floodplain Management, as amended by E.O. 12148 and E.O. 13690; E.O. 12898, Federal Actions To Address Environmental Justice in Minority Populations and Low Income Populations; E.O. 13175, Consultation and Coordination with Indian Tribal Governments; E.O. 11514, Protection and Enhancement of Environmental Quality; E.O. 13112, Invasive Species.

(Catalog of Federal Domestic Assistance Program No. 20.205, Highway Research, Planning and Construction. The regulations implementing Executive Order 12372 regarding intergovernmental consultation on Federal programs and activities apply to this program.)

Authority: 23 U.S.C. 139(l)(1), as amended by the Moving Ahead for Progress Act, Pub. L. 112-141, section 1308, 126 Stat. 405 (2012).

Issued on: August 27, 2019.
Susan Klekar,
Division Administrator, Carson City, Nevada.

[FR Doc. 2019-19106 Filed 9-5-19; 8:45 am]

BILLING CODE 4910-RY-P